DEPARTMENT OF COMMERCE

National Oceanic and Atmospheric Administration

RIN 0648-XR50

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject programmatic Exempted Fishing Permit (EFP) application for the Study Fleet Program contains all of the required information and warrants further consideration. Study Fleet projects are managed by the University of Massachusetts Dartmouth School of Marine Science and Technology (SMAST). The programmatic EFP would grant exemptions from minimum fish sizes, and possession and landing limits. However, further review and consultation may be necessary before a final determination is made to issue the EFP. Therefore, NMFS announces that the Assistant Regional Administrator proposes to issue a programmatic EFP that would allow seven vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before September 29, 2009.

ADDRESSES: Comments on this notice may be submitted by e-mail. The mailbox address for providing e-mail comments is NERO.EFP@noaa.gov. Include in the subject line of the e-mail comment the following document identifier: “Comments on SMAST Study Fleet Programmatic EFP.” Written comments should be sent to Patricia A. Kurkul, Regional Administrator, NMFS, Northeast Regional Office, 55 Great Republic Drive, Gloucester, MA 01930. Mark the outside of the envelope “Comments on SMAST Study Fleet Programmatic EFP.” Comments may also be sent via facsimile (fax) to (978) 281-9135.

FOR FURTHER INFORMATION CONTACT: Allison Murphy, Fishery Management Specialist, phone: 978-281-9122.

SUPPLEMENTARY INFORMATION: A complete application for an EFP was submitted by SMAST on May 26, 2009. The EFP would exempt federally permitted commercial fishing vessels from the regulations detailed below while participating in the following projects managed by SMAST:

(1) Georges Bank (GB) Multispecies Otter Trawl Net Study Fleet (seven vessels);

(2) Skate and Monkfish Age Validation Research and American Lobster Shell Disease Research (seven vessels).

The primary goal of the GB Multispecies Otter Trawl Net study fleet is to characterize catch on an effort level and collect size distributions of kept and discarded catch by: 1) Training fishermen to representatively sample their catch, measuring 100 kept and 100 discarded fish for each statistical area fished per trip for each species that is assessed using an analytical stock assessment; 2) developing data protocols to integrate biological sampling into study fleet databases, including application of electronic measuring onboard; 3) measuring 100 kept and 100 discarded skates for each statistical area fished per trip for each species; and 4) measuring Atlantic wolffish when available.

The project is a continuation of research conducted since 2000 by SMAST, and which is now in its third phase of incorporating electronic reporting and EFPs for vessels collecting data. While fishing under Northeast (NE) multispecies day-at-sea (DAS), catch estimations would be derived by one of three methods: 1) Measuring actual weight using an electronic scale; 2) using basket weight, calculated by using a standard weight for a basket and counting the number of baskets filled; or 3) by using hail weight that is estimated by the crew. Length and weight measurements of 100 kept and 100 discarded fish, by statistical area, would be taken from a predetermined list of species (see Table 1). The landing of fish for sale at authorized dealers would be conducted according to each vessel's fishing permits and within current regulations. Temporary exemptions from the NE multispecies possession limits at § 648.86, and NE multispecies minimum fish sizes at § 648.83(a)(3), are necessary to obtain the proposed data from undersized individuals, prohibited species, and/or fish in excess of trip limits. Similarly, temporary exemptions from monkfish possession limits at § 648.94(a) and (b), and monkfish minimum fish sizes at § 648.93, are necessary to obtain data from undersized individuals in excess of trip limits. Exemptions from skate possession restrictions at § 648.322(a)(1), and prohibitions on possession of skates at § 648.322(c)(1), are also necessary, as these species may be encountered when catch estimation is being completed. Vessels would be prohibited from landing undersized fish or amounts of fish greater than the allowable landing limits.

Table 1. List of Species for Biological Length Frequency Samples
Species | Proposed Sample Size
Southern New England (SNE) Yellowtail Flounder | 100 kept fish per statistical area per trip, 100 discarded fish per statistical area per trip
Georges Bank (GB) Yellowtail Flounder | 100 kept fish per statistical area per trip, 100 discarded fish per statistical area per trip
Cape Cod/GOM Yellowtail Flounder | 100 kept fish per statistical area per trip, 100 discarded fish per statistical area per trip
SNE Winter Flounder | 100 kept fish per statistical area per trip, 100 discarded fish per statistical area per trip
GB Winter Flounder | 100 kept fish per statistical area per trip, 100 discarded fish per statistical area per trip
GB Haddock | 100 kept fish per statistical area per trip, 100 discarded fish per statistical area per trip
GB Atlantic Cod | 100 kept fish per statistical area per trip, 100 discarded fish per statistical area per trip
GOM Atlantic Cod | 100 kept fish per statistical area per trip, 100 discarded fish per statistical area per trip
Monkfish | 100 kept fish per statistical area per trip, 100 discarded fish per statistical area per trip
American Plaice | 100 kept fish per statistical area per trip, 100 discarded fish per statistical area per trip
Witch Flounder | 100 kept fish per statistical area per trip, 100 discarded fish per statistical area per trip
Atlantic Wolffish | 100 kept fish per statistical area per trip, 100 discarded fish per statistical area per trip
Northeast Skate Complex (each species) | 100 kept fish per statistical area per trip, 100 discarded fish per statistical area per trip

Sampling would be conducted aboard seven fishing vessels that intend to fish on GB from the date of issuance through April 2010, with a minimum of two trips per month and an average trip duration of 7 days. All vessels would utilize otter trawl gear, with gear configuration and mesh size dictated by current fishery regulations.

The primary goals of the laboratory research are to validate the age of multiple skate species and monkfish using ocytetracycline markers and to examine the relationship between trophic feeding levels and American lobster epizootic shell disease (ESD).

A target of 6-10 individuals of each skate species (see Table 1) would be caught and maintained in the SMAST seawater laboratory, and given an injection of ocytetracycline. Most individuals would be maintained for a minimum of 1 year prior to sacrifice. Skates would then be immediately dissected, and vertebra would be removed for further processing. In addition, egg cases would be collected and injected with tetracycline to determine whether there is a difference between the birth mark and the hatch mark. Exemptions from skate possession restrictions at § 648.322(a)(1) and prohibitions on possession of skates at § 648.322(c)(1) are necessary to collect specimens for laboratory research. Vessels would be prohibited from landing undersized fish or amounts of fish greater than the allowable landing limits.

Monkfish (see Table 2) would be collected by the study fleet fishing under a monkfish DAS and transport techniques would be tested. Monkfish would be marked with ocytetracycline, and most would be cultured for 1 year to allow for growth. Temporary exemptions from monkfish possession limits at § 648.94(a) and (b), and monkfish minimum fish sizes at § 648.93, are necessary to obtain specimens for laboratory research. Vessels would be prohibited from landing undersized fish or amounts of fish greater than the allowable landing limits.

Table 2. List of Species for Biological Length Frequency Samples
Species | Proposed Sample Size
Northern Monkfish | 10 fish/month
Southern Monkfish | 10 fish/month
Thorny Skate | 10 fish/month
Smooth Skate | 10 fish/month
Clearnose Skate | 10 fish/month
Barndoor Skate | 10 fish/month
Rosette Skate | 10 fish/month
Little Skate | 10 fish/month
Winter Skate | 10 fish/month
American Lobster | 10 animals/month

Laboratory feeding experiments would be conducted on American lobster to determine the trophic levels from which they feed. The isotope ?948;15N would be measured, with the theoretical basis that the higher the trophic level an animal feeds, the higher the level of the isotope. Exemptions from lobster restrictions at §§ 697.7(c)(1)(xxiii) and 697.17(a) are necessary to collect specimens for laboratory research.

Samples for the laboratory research would be collected aboard the same seven fishing vessels participating in the Otter Trawl study fleet, which intend to fish on GB from the date of issuance through April 2010, with a minimum of two trips per month and an average trip duration of 7 days. All vessels would utilize otter trawl gear, with gear configuration and mesh size dictated by current fishery regulations.

Based on preliminary review of this project, and in accordance with NOAA Administrative Order 216-6, a Categorical Exclusion from requirements to prepare either an Environmental Impact Statement or an Environmental Assessment under the National Environmental Policy Act appears to be justified. The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: September 8, 2009.
Emily H. Menashes,
Acting Director, Office of Sustainable Fisheries, National Marine Fisheries Service.

[FR Doc. E9-21981 Filed 9-11-09; 8:45 am]

BILLING CODE 3510-22-S